DEPARTMENT OF DEFENSE

Department of the Navy

Notice of Availability of the Record of Decision for the Final Supplemental Environmental Impact Statement/Supplemental Overseas Environmental Impact Statement (SEIS/SOEIS) for Surveillance Towed Array Sensor System (SURTASS) Low Frequency Active (LFA) Sonar

AGENCY: Department of the Navy, DoD.

ACTION: Notice.

SUMMARY: The United States Department of the Navy (DoN), announces its decision to continue utilizing SURTASS LFA and Compact LFA sonar systems (LFA hereafter inclusive of both systems) onboard United States Navy surveillance ships for training and testing activities conducted under the authority of the Secretary of the Navy in the western and central North Pacific and eastern Indian Oceans, including certain geographical restrictions, as described in Alternative 2 of the June 2019 Final SEIS/SOEIS for SURTASS LFA Sonar. Under Alternative 2, the DoN will be able to meet current and future DoN training and testing requirements.

SUPPLEMENTARY INFORMATION: Alternative 2 is the DoN's preferred alternative, and provides for additional training and testing capacity for vessels to participate in at-sea exercises, to conduct acoustic research testing, and to conduct new SURTASS LFA sonar system testing. The complete text of the Record of Decision (ROD) for the June 2019 Final SEIS/SOEIS for SURTASS LFA Sonar is available on the project website at http://www.surtass-lfa-eis.com/, along with the June 2019 Final SEIS/SOEIS for SURTASS LFA Sonar and supporting documents. Single copies of the ROD are available upon request by contacting: Chief of Naval Operations Energy and Environmental Readiness Division, Attn: SURTASS LFA SONAR SEIS/SOEIS Project Manager, 2000 Navy Pentagon Rm. 2D253, Washington DC, 20350-2000.

Dated: August 9, 2019.
D.J. Antenucci,
Commander, Judge Advocate General's Corps, U.S. Navy, Federal Register Liaison Officer.

[FR Doc. 2019-17427 Filed 8-13-19; 8:45 am]

BILLING CODE 3810-FF-P